DEPARTMENT OF EDUCATION

National Assessment Governing Board; Meeting

AGENCY: Department of Education, National Assessment Governing Board.

ACTION: Notice; correction.

SUMMARY: The National Assessment Governing Board published a document in the Federal Register of July 26, 2010, announcing the schedule and proposed agenda of a forthcoming meeting of the National Assessment Governing Board. The meeting agenda has been revised to reflect the addition of another full Board closed session on Friday, August 6, 2010.

FOR FURTHER INFORMATION CONTACT: Munira Mwalimu at (202) 357-6906.

Correction

In the Federal Register of July 26, 2010, FR Doc. 2010-18204 filed on July 23, 2010, Volume 75, Number 142, pages 43515-43517, the Board published a notice of its open and closed meetings scheduled on August 5-7, 2010. The notice is hereby amended to include a second closed session meeting on Friday, August 6, 2010 at the conclusion of the full Board meeting, from approximately 4:15 p.m. to 4:30 p.m. The purpose of this closed session is to review and take action on the slate of finalists for submission to Secretary Duncan for the Board's open category of Business Representative. The vacancy in this category has just been announced, and due to the fact that a replacement is needed prior to October 1, 2010 when new Board member terms commence, the Board needs to act on the slate of nominees at the August 7, 2010 meeting. Therefore this notice is being published in the Federal Register less than 15 days before the meeting due to the recent vacancy announcement and the need to fill this position prior to October 1, 2010.

The Board discussions on candidates for vacant Board positions pertain solely to internal personnel rules and practices of an agency and will disclose information of a personal nature where disclosure would constitute an unwarranted invasion of personal privacy. As such, the discussions are protected by exemptions 2 and 6 of section 552b(c) of Title 5 U.S.C.

Electronic Access to This Document: You may view this document, as well as all other documents of this Department published in the Federal Register, in text or Adobe Portable Document Format (PDF) on the Internet at the following site: http://www.ed.gov/news/fedregister/index.html

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 29, 2010.
Cornelia S. Orr,
Executive Director, U.S. Department of Education, National Assessment Governing Board.

[FR Doc. 2010-19107 Filed 8-3-10; 8:45 am]

BILLING CODE 4000-01-P